ADVISORY COUNCIL ON HISTORIC PRESERVATION

Draft Advisory Council on Historic Preservation Policy Statement on Affordable Housing and Historic Preservation

AGENCY: Advisory Council on Historic Preservation.

ACTION: Notice of Intent to Issue Policy Statement on Affordable Housing and Historic Preservation.

SUMMARY: The Advisory Council on Historic Preservation (ACHP) is revisiting its “Policy Statement on Affordable Housing and Historic Preservation,” adopted in 1995 (1995 Policy). A Task Force composed of ACHP members has drafted a revised policy, and invites your views and comments. The Task Force will use your comments to finalize the draft policy before presenting it to the full ACHP membership for consideration and possible adoption.

DATES: Submit comments on or before August 16, 2006.

ADDRESSES: Address all comments concerning this proposed program comment to Don Klima, Director, Office of Federal Agency Programs, Advisory Council on Historic Preservation, 1100 Pennsylvania Avenue, NW., Suite 809, Washington, DC 20004. Fax 202-606-8672. You may submit electronic comments to affordablehousing@achp.gov.

FOR FURTHER INFORMATION CONTACT: Don Klima, (202) 606-8505.

SUPPLEMENTARY INFORMATION: The Advisory Council on Historic Preservation (ACHP) is an independent Federal agency, created by the National Historic Preservation Act, that promotes the preservation, enhancement, and productive use of our Nation's historic resources, and advises the President and Congress on national historic preservation policy.

Section 106 of the National Historic Preservation Act (Section 106), 16 U.S.C. 470f, requires Federal agencies to consider the effects of their undertakings on historic properties and provide the ACHP a reasonable opportunity to comment with regard to such undertakings. ACHP has issued the regulations that set forth the process through which Federal agencies comply with these duties. Those regulations are codified under 36 CFR part 800.

I. Background on the Draft Policy Statement

In 1995, the ACHP adopted the “Policy Statement on Affordable Housing and Historic Preservation” (1995 Policy) to serve as a guide for Federal agencies and State Historic Preservation Offices (SHPOs) when making decisions about affordable housing projects during review of Federal undertakings under Section 106 and its implementing regulations. The ACHP adopted the policy to guide Federal agencies and SHPOs at a time when conflicts between the dual goals of providing affordable housing and preserving historic properties was making the achievement of either more difficult. A decade later, the provision of affordable housing was developed into an even more pressing national concern, prompting a reconsideration of the principles in the 1995 Policy.

In 2005, the ACHP Chairman convened an Affordable Housing Task Force to revisit the 1995 Policy in light of changes to the Section 106 regulations since 1999 and other ACHP initiatives. Members of the Task Force include the U.S. Department of Agriculture, U.S. Department of the Interior, the National Conference of State Historic Preservation Officers (NCSHPO), the National Trust for Historic Preservation, and citizen members, Emily Summers, and Jack Williams, Chair. The U.S. Department of Housing and Urban Development participates in the Task Force as an ACHP observer.

The Task Force began meeting in April 2005 to consider to what extent the 1995 Policy had been implemented and whether the 1995 Policy had improved the effectiveness and efficiency of historic preservation reviews for affordable housing projects. The Task Force conducted an online survey of stakeholders in August-September 2005 to solicit the views of housing providers, local governments, and the historic preservation community regarding the significance of the 1995 Policy and its practical application in the field. The goal of the survey was to assess whether the 1995 Policy had made an appreciable difference in the planning, outcomes, and implementation schedule for completing affordable housing projects that affected historic properties.

The ACHP posted the survey online, and individual task force members with connections to various constituencies sent e-mail notices and invitations to a broad distribution of Section 106 participants and housing providers. During the 30 days that the survey was posted on the ACHP Web site, nearly 350 individuals responded to the invitation to comment.

After conducting additional research efforts, the Task Force concluded in November 2005 that revision of the 1995 Policy is necessary to achieve the goals of promoting historic preservation through the creation of affordable housing. Further, it was agreed that there were still opportunities to make the Section 106 review process more effective and efficient for these types of undertakings.

The Task Force has drafted a revised Policy Statement on Affordable Housing and Historic Preservation (text at the end of this notice). The ACHP invites the comments of the public on the draft policy statement, particularly as it relates to the following questions:

—How can the approaches outlined in the draft policy statement be used to address your concerns about combining and balancing the goals of historic preservation and the provision of affordable housing?

—How will the principles outlined in the draft policy statement foster and provide a framework for consultation in affordable housing undertakings?

—How will the draft policy statement assist Federal agencies, local governments, developers, and other housing providers in planning and designing affordable housing projects to preserve and reuse historic properties and to revitalize distressed neighborhoods?

—What form of guidance would be most useful to you in the implementation of the principles outlined in this draft policy statement?

—What major obstacles to providing affordable housing with or near historic properties are not addressed in the draft policy statement?

If you have specific experiences in using the 1995 Policy in the planning and implementation of affordable housing projects that you believe will inform the revision of the Policy Statement, we encourage you to share this information in your comments.

II. Text of the Draft Policy

The following is the text of the draft policy:

Advisory Council on Historic Preservation (ACHP) Policy Statement on Affordable Housing and Historic Preservation

Historic buildings provide affordable housing to many American families. Affordable housing rehabilitation can contribute to the ongoing vitality of historic neighborhoods as well as of the businesses and institutions that serve them. Rehabilitation can be an important historic preservation strategy. Federal agencies that help America meet its need for safe, decent, and affordable housing, most notably the U.S. Department of Housing Development (HUD) and the U.S. Department of Agriculture's (USDA's) Rural Development agency, often work with or near historic properties.

The ACHP considers affordable housing for the purposes of this policy to be Federally-subsidized, single- and multi-family housing for individuals and families that make less than 80% of the area median income. It includes, but is not limited to, Federal assistance for new construction, rehabilitation, mortgage insurance, and loan guarantees.

National policy encompasses both preserving historic resources and providing affordable housing. The National Historic Preservation Act (NHPA) of 1966, as amended, directs the Federal government to foster conditions under which modern society and prehistoric and historic resources can exist in productive harmony and “fulfill the social, economic, and other requirements of present and future generations.” Similarly, affordable housing legislation like the Cranston-Gonzalez Act of 1990, which aims to “expand the supply of decent, safe, sanitary, and affordable housing,” anticipates historic preservation as a tool for meeting its goals. Actively seeking ways to reconcile historic preservation goals with the special economic and social needs associated with affordable housing is critical in addressing one of the nation's most pressing challenges.

Providing affordable housing is a growing national need that continues to challenge housing providers and preservationists.

In issuing this policy statement, the ACHP, consistent with Section 202 of the NHPA, offers a flexible approach for affordable housing projects involving historic properties. Section 106 of the National Historic Preservation Act (Section 106) requires Federal agencies to take into account the effect of their actions on historic properties and afford the ACHP a reasonable opportunity to comment. This policy provides a framework for meeting these requirements for affordable housing.

Federal tax incentives provide opportunities for historic preservation and affordable housing to work together, including the Low-Income Building Tax Credit and the Historic Rehabilitation Tax Credit. Projects taking advantage of the Historic Rehabilitation Tax Credit must be reviewed by the National Park Service (NPS) for adherence to the Secretary of the Interior's Standards for Rehabilitation and Guidelines for Rehabilitating Historic Buildings (Secretary's Standards) in a separate and distinct process. Review of thee projects is more comprehensive than Section 106 review and necessitates early coordination with NPS and the State Historic Preservation Officer (SHPO) since work must adhere to the Secretary's Standards to obtain the tax credit. Nonetheless, coordination with Section 106 consultation and these reviews frequently occurs.

In an effort to better focus Section 106 reviews for affordable housing, the ACHP encourages Federal and State agencies, SHPOs, Tribal Historic Preservation Officers (THPOs), local governments, housing providers, and other consulting parties to use the following principles in Section 106 consultation.

Implementation Principles

I. Rehabilitating historic properties to provide affordable housing is a sound historic preservation strategy.

II. Federal agencies and State and local government entities assuming HUD's environmental review requirements are responsible for ensuring compliance with Section 106.

III. Review of effects in historic districts should focus on exterior features.

IV. Consultation should consider the overall preservation goals of the community.

V. Plans and specifications should adhere to the Secretary's Standards when possible and practical.

VI. Section 106 consultation should emphasize consensus building.

VII. The ACHP encourages streamlining the Section 106 process to respond to local conditions.

VIII. The need for archeological investigations should be avoided.

I. Rehabilitating historic properties to provide affordable housing is a sound historic preservation strategy. Continued investment in historic buildings through rehabilitation and repair for affordable housing purposes and stabilization of historic districts through the construction of infill housing should be recognized as contributing to the broad historic preservation goals of neighborhood revitalization and retention.

II. Federal agencies and State and local government entities assuming HUD's environmental review requirements are responsible for ensuring compliance with Section 106. Federal agencies, notably USDA Rural Development and HUD, provide important funding for affordable housing. These Federal agencies, and funding recipients assuming HUD's environmental review requirements, must comply with Section 106. SHPOs, THPOs, and local historic preservation commissions provide expert opinions and advice during consultation. Consultation should be concluded and outcomes recorded prior to the expenditure of funds.

III. Review of effects in historic districts should focus on exterior features. Section 106 review of effects focuses on the characteristics that qualify a property for listing in the National Register of Historic Places, The significance of historic districts is typically associated with exterior features. Accordingly, unless a building is listed or considered eligible for listing in the National Register as an individual property or specific interior elements contribute to maintaining a district's character, review under Section 106 should focus on proposed changes to the exterior. In all cases, identifying the features that qualify a property for inclusion in the National Register defines the scope of Section 106 review.

IV. Consultation should consider the overall preservation goals of the community. When assessing, and negotiating the resolution of, the effects of affordable housing projects on historic properties, consultation should focus not simply on individual buildings but on the historic preservation goals of the broader neighborhood or community. If the affected historic property is a historic district, the agency official should assess effects on the historic district as a whole. Proposals to demolish historic properties for new replacement housing should be based on background documentation that addresses the broader context of the historic district and evaluates the economic and structural feasibility of rehabilitation that advances affordable housing.

V. Plans and specifications should adhere to the Secretary's Standards when possible and practical. The Secretary's Standards outline a consistent national approach to the treatment of historic properties that can be applied flexibly in a way that relates to local character and needs. Plans and specifications for rehabilitation, new construction, and abatement of hazardous conditions in affordable housing projects associated with historic properties should adhere to the recommended approaches in the Secretary's Standards when possible and practical. The ACHP recognizes that there are instances when the Secretary's Standards cannot be followed and that Section 106 allows for the negotiation of other outcomes.

VI. Section 106 consultation should emphasize consensus building. Section 106 review strives to build consensus with affected communities in all phases of the process. Consultation with affected communities should be on a scale appropriate to that of the undertaking. Various stakeholders, including community members and neighborhood residents, should be included in the Section 106 review process as consulting parties so that the full range of issues can be addressed in developing a balance between historic preservation and affordable housing goals.

VII. The ACHP encourages streamlining the Section 106 process to respond to local conditions. The ACHP encourages participants to seek innovative and practical ways to streamline the Section 106 process that respond to unique local conditions related to the delivery of affordable housing. Programmatic Agreements often delegate the Section 106 review role of the SHPO to local governments, particularly where local preservation ordinances exist and/or where qualified preservation professionals are employed to improve the efficiency of historic preservation reviews. Such agreements may also target the Section 106 review process to local circumstances that warrant the creation of exempt categories for routine activities, the adoption of “treatment and design protocol” for rehabilitation and new infill construction, and the development of design guidelines tailored to a specific historic district and/or neighborhood.

VIII. The need for archeological investigations should be avoided. Archeological investigations should not be required for affordable housing projects limited to rehabilitation and requiring minimal ground disturbance.

Authority: 16 U.S.C. 470j.

Dated: July 12, 2006.
Don Klima,
Acting Executive Director.

[FR Doc. 06-6254 Filed 7-14-06; 8:45 am]

BILLING CODE 4310-K6-M